DEPARTMENT OF ENERGY

Environmental Management Site-Specific Advisory Board, Portsmouth

AGENCY: Office of Environmental Management, Department of Energy.

ACTION: Notice of open meeting: cancellation.

SUMMARY: On August 9, 2023, the Department of Energy published a notice of open meeting announcing a meeting on September 7, 2023, of the Environmental Management Site-Specific Advisory Board, Portsmouth. This notice announces the cancellation of this meeting.

DATES: The meeting scheduled for September 7, 2023, announced in the August 9, 2023, issue of the Federal Register (FR Doc. 2023-17039, 85 FR 53872), is cancelled.

FOR FURTHER INFORMATION CONTACT: Eric Roberts, Board Support Manager, by Phone: (270) 554-3004 or Email: eric@pgdpcab.org.

Signed in Washington, DC, on August 24, 2023.
LaTanya Butler,
Deputy Committee Management Officer.

[FR Doc. 2023-18722 Filed 8-29-23; 8:45 am]

BILLING CODE 6450-01-P